NUCLEAR REGULATORY COMMISSION

Sunshine Act Meeting

AGENCY HOLDING THE MEETING: Nuclear Regulatory Commission.

DATE: Weeks of September 24, October 1, 8, 15, 22, 29, 2001.

PLACE: Commissioner's Conference Room, 11555 Rockville Pike, Rockville, Maryland.

STATUS: Public and Closed.

MATTERS TO BE CONSIDERED:

Week of September 24, 2001

Friday, September 28, 2001

9:25 a.m. Affirmation Session (Public Meeting) (if needed)

9:30 a.m. Briefing on Decommissioning Activities and Status (Public Meeting) (Contact: John Buckley, 301-415-6607)

Week of October 1, 2001—Tentative

Thursday, October 4, 2001

9:25 a.m. Affirmation Session (Public Meeting) (if needed)

Week of October 8, 2001—Tentative

There are no meetings scheduled for the Week of October 8, 2001.

Week of October 15, 2001—Tentative

Thursday, October 18, 2001

9:00 a.m. Meeting with NRC Stakeholders—Progress of Regulatory Reform (Public Meeting) (Location—Two White Flint North Auditorium)

Week of October 22, 2001—Tentative

There are no meetings scheduled for the Week of October 22, 2001.

Week of October 29, 2001—Tentative

There are no meetings scheduled for the Week of October 29, 2001.

The schedule for Commission meetings is subject to change on short notice. To verify the status of meetings call (recording)—(301) 415-1292. Contact person for more information: David Louis Gamberoni (301) 415-1651.

ADDITIONAL INFORMATION: By a vote of 4-0 on September 19, the Commission determined pursuant to U.S.C.; 552b(e) and § 9.107(a) of the Commission's rules that “Briefing on Threat Environmental Assessment (Closed—Ex. 1)” be held on September 20, and on less than one week's notice to the public. This meeting was originally scheduled for September 28.

The NRC Commission Meeting Schedule can be found on the Internet at: http://www.nrc.gov/SECY/smj/schedule.htm.

This notice is distributed by mail to several hundred subscribers; if you no longer wish to receive it, or would like to be added to the distribution, please contact the Office of the Secretary, Washington, DC 20555 (301-415-1969). In addition, distribution of this meeting notice over the Internet system is available If you are interested in receiving this Commission meeting schedule electronically, please send an electronic message to dkw@nrc.gov.

Dated: September 20, 2001.
David Louis Gamberoni,
Technical Coordinator, Office of the Secretary.

[FR Doc. 01-24044 Filed 9-21-01; 11:40 am]

BILLING CODE 7590-01-M